DEPARTMENT OF HOMELAND SECURITY

8 CFR Parts 103, 214, 274a, and 299

[DHS Docket No. USCIS-2008-0038; CIS No. 2459-08]

RIN 1615-AB76

Commonwealth of the Northern Mariana Islands Transitional Worker Classification; Reopening the Public Comment Period

AGENCY: U.S. Citizenship and Immigration Services, DHS.

ACTION: Interim rule; reopening and extending the public comment period.

SUMMARY: U.S. Citizenship and Immigration Services (USCIS) announces the reopening and extension of the public comment period for the interim rule entitled “Commonwealth of the Northern Mariana Islands Transitional Worker Classification.” The interim rule was initially published on October 27, 2009 and intended to become effective on November 27, 2009. On November 25, the United States District Court for the District of Columbia enjoined implementation of the rule until DHS considers public comments and issues a final rule. To provide the public and the CNMI with optimum opportunity to comment on the proposed transitional worker classification provisions, USCIS is reopening the comment period for an additional 30 days. USCIS will consider comments received during the entire public comment period in its development of the final rule.

DATES: Written comments must be submitted on or before January 8, 2010.

ADDRESSES: You may submit comments, identified by DHS Docket No. USCIS-2008-0038, by one of the following methods:

• Federal eRulemaking Portal: http://www.regulations.gov. Follow the instructions for submitting comments.

• E-mail: You may submit comments directly to USCIS by e-mail at rfs.regs@dhs.gov. Include DHS Docket No. USCIS-2008-0038 in the subject line of the message.

• Mail: Chief, Regulatory Products Division, U.S. Citizenship and Immigration Services, Department of Homeland Security, 111 Massachusetts Avenue, NW., Suite 3008, Washington, DC 20529-2210. To ensure proper handling, please reference DHS Docket No. USCIS-2008-0038 on your correspondence. This mailing address may also be used for paper, disk, or CD-ROM submissions.

• Hand Delivery/Courier: Regulatory Products Division, U.S. Citizenship and Immigration Services, Department of Homeland Security, 111 Massachusetts Avenue, NW., Suite 3008, Washington, DC 20529-2210. Contact Telephone Number (202) 272-8377.

Public Participation: Interested persons are invited to participate in this rulemaking by submitting written data, views, or arguments on all aspects of this rule. DHS also invites comments that relate to the economic or federalism effects that might result from this rule. Comments that will provide the most assistance to DHS will reference a specific portion of the rule, explain the reason for any recommended change, and include data, information, or authority that support such recommended change.

Instructions: All submissions received must include the agency name and DHS Docket No. USCIS-2008-0038. All comments received will be posted without change to http://www.regulations.gov, including any personal information provided.

Docket: For access to the docket to read background documents or comments received go to http://www.regulations.gov. Submitted comments may also be inspected at the Regulatory Products Division, U.S. Citizenship and Immigration Services, Department of Homeland Security, 111 Massachusetts Avenue, NW., Suite 3008, Washington, DC 20529-2210.

FOR FURTHER INFORMATION CONTACT: Paola Rodriguez Hale, U.S. Citizenship and Immigration Services, Department of Homeland Security, 20 Massachusetts Avenue, NW., 2nd Floor, Washington, DC 20529-2060, telephone: 202-272-8100.

SUPPLEMENTARY INFORMATION: On May 8, 2008, Congress enacted Public Law 110-229 to extend U.S. immigration laws to the CNMI with transition provisions unique to the CNMI. See Consolidated Natural Resources Act of 2008, Pub. L. 110-229, Title VII, 122 Stat. 754, 853 (2008) (CNRA). The purpose of the CNRA is to ensure effective border controls and properly address national and homeland security concerns by extending U.S. immigration law to the CNMI, and to phase-out the CNMI's nonresident immigration system in a manner that minimizes adverse economic and fiscal effects while maximizing the CNMI's potential for future economic growth. The effective date for this transition is November 28, 2009.

On October 27, 2009, USCIS published an interim rule entitled “Commonwealth of the Northern Mariana Islands Transitional Worker Classification” at 74 FR 55094. That rule established a new CNMI-only transitional worker classification (CW classification) intended to be effective for the duration of the transition period. The CW classification would allow workers not otherwise eligible for any other lawful status under the INA to enter or remain in the CNMI as a transitional worker during the transition period. The interim rule was to become effective on November 27, 2009.

On November 25, 2009, the U.S. District Court for the District of Columbia enjoined implementation of the interim rule until DHS considers public comments, makes any necessary changes to the interim rule in response to such comments, and issues the final rule. Commonwealth of the Northern Mariana Islands v. United States, No. 08-1572 (D.D.C. Nov. 25, 2009). Although not required to do so under the court's order, USCIS is providing an additional opportunity for the public to comment on its proposed transitional worker classification provisions set forth in the interim rule. USCIS, therefore, is reopening the public comment period for an additional 30 days. USCIS also is extending the original comment period until January 8, 2010 and will consider comments received throughout the entirety of the public comment period in development of its final transitional worker classification rule.

Please visit http://www.regulations.gov to view the rule and all supporting documents.

Alejandro N. Mayorkas,
Director, U.S. Citizenship and Immigration Services.

[FR Doc. E9-29331 Filed 12-8-09; 8:45 am]

BILLING CODE 9111-97-P